DEPARTMENT OF ENERGY

Federal Energy Regulatory Commission

Combined Notice of Filings

Take notice that the Commission has received the following Natural Gas Pipeline Rate and Refund Report filings:

Docket Numbers: RP20-533-000.

Applicants: Equitrans, L.P.

Description: § 4(d) Rate Filing: Negotiated Rate Agreement—Arsenal Correction to be effective 2/1/2020.

Filed Date: 2/20/20.

Accession Number: 20200220-5000.

Comments Due: 5 p.m. ET 3/3/20.

Docket Numbers: RP20-534-000.

Applicants: Iroquois Gas Transmission System, L.P.

Description: § 4(d) Rate Filing: 022020 Negotiated Rates—Mercuria Energy America, LLC R-7540-02 to be effective 3/1/2020.

Filed Date: 2/20/20.

Accession Number: 20200220-5003.

Comments Due: 5 p.m. ET 3/3/20.

Docket Numbers: RP20-535-000.

Applicants: Kern River Gas Transmission Company.

Description: § 4(d) Rate Filing: 2020 Permanent Release RRI to Morgan Stanley to be effective 4/1/2020.

Filed Date: 2/20/20.

Accession Number: 20200220-5013.

Comments Due: 5 p.m. ET 3/3/20.

Docket Numbers: RP20-536-000.

Applicants: Anadarko Energy Services Company, Sequent Energy Management, L.P.

Description: Petition to Amend Temporary Waivers of Capacity Release Regulations and Policies, et al. of Anadarko Energy Services Company, et al. under RP20-536.

Filed Date: 2/19/20.

Accession Number: 20200219-5163.

Comments Due: 5 p.m. ET 2/26/20.

Docket Numbers: RP20-537-000.

Applicants: Natural Gas Pipeline Company of America.

Description: § 4(d) Rate Filing: Amendment to a Negotiated Rate Filing—Macquarie to be effective 4/1/2020.

Filed Date: 2/21/20.

Accession Number: 20200221-5000.

Comments Due: 5 p.m. ET 3/4/20.

Docket Numbers: RP20-538-000.

Applicants: ANR Pipeline Company.

Description: § 4(d) Rate Filing: Housekeeping Early 2020 to be effective 3/23/2020.

Filed Date: 2/21/20.

Accession Number: 20200221-5030.

Comments Due: 5 p.m. ET 3/4/20.

Docket Numbers: RP20-539-000.

Applicants: Midship Pipeline Company, LLC.

Description: Compliance filing Baseline Compliance Filing CP17-458 to be effective 4/1/2020.

Filed Date: 2/21/20.

Accession Number: 20200221-5067.

Comments Due: 5 p.m. ET 3/4/20.

Docket Numbers: RP20-540-000.

Applicants: Columbia Gulf Transmission, LLC.

Description: Compliance filing TRA 2020 Waiver.

Filed Date: 2/21/20.

Accession Number: 20200221-5099.

Comments Due: 5 p.m. ET 3/4/20.

Docket Numbers: RP20-541-000.

Applicants: Eastern Shore Natural Gas Company.

Description: § 4(d) Rate Filing: Negotiated Rate—DCRC—April 1, 2020 to be effective 4/1/2020.

Filed Date: 2/21/20.

Accession Number: 20200221-5106.

Comments Due: 5 p.m. ET 3/4/20.

Docket Numbers: RP20-542-000.

Applicants: Rockies Express Pipeline LLC.

Description: Annual Fuel and Lost & Unaccounted Reimbursement Percentages and Power Cost Charges of Rockies Express Pipeline LLC under RP20-542.

Filed Date: 2/21/20.

Accession Number: 20200221-5197.

Comments Due: 5 p.m. ET 3/4/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 24, 2020.
Kimberly D. Bose,
Secretary.

[FR Doc. 2020-04129 Filed 2-27-20; 8:45 am]

BILLING CODE 6717-01-P